DEPARTMENT OF HEALTH AND HUMAN SERVICES

Centers for Disease Control and Prevention

[30Day-14-0260]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Health Hazard Evaluations/Technical Assistance and Emerging Problems (0920-0260, Expiration 11/30/2014)—Revision—National Institute for Occupational Safety and Health (NIOSH), Centers for Disease Control and Prevention (CDC).

Background and Brief Description

The Occupational Safety and Health Act of 1970 and the Federal Mine Safety and Health Act of 1977, mandates the National Institute for Occupational Safety and Health (NIOSH) respond to requests for health hazard evaluations (HHE) to identify chemical, biological or physical hazards in workplaces throughout the United States. Each year, NIOSH receives approximately 300 such requests. Most HHE requests come from the following types of companies: service, manufacturing, health and social services, transportation, construction, agriculture, mining, skilled trade and construction.

A printed HHE request form is available in English and in Spanish. The form is also available on the Internet and differs from the printed version only in format and in the fact that it can be submitted directly from the Web site. The request form takes an estimated 12 minutes to complete. The form provides the mechanism for employees, employers, and other authorized representatives to supply the information required by the regulations governing the NIOSH HHE program (42 CFR 85.3-1).

If employees are submitting the form, it must contain the signatures of three or more current employees. However, regulations allow a single signature if the requestor: is one of three (3) or fewer employees in the process, operation, or job of concern; or is any officer of a labor union representing the employees for collective bargaining purposes. An individual management official may request an evaluation on behalf of the employer. The information provided is used by NIOSH to determine whether there is reasonable cause to justify conducting an investigation and provides a mechanism to respond to the requestor.

NIOSH reviews the HHE request to determine if an on-site evaluation is needed. The primary purpose of an on-site evaluation is to help employers and employees identify and eliminate occupational health hazards. For 40% of the requests received NIOSH determines an on-site evaluation is needed.

In about 70% of on-site evaluations, employees are interviewed to help further define concerns. Interviews may take approximately 15 minutes per respondent. The interview questions are specific to each workplace and its suspected diseases and hazards. However, interviews are based on standard medical practices.

In approximately 30% of on-site evaluations (presently estimated to be 38 facilities), questionnaires are distributed to the employees (averaging about 100 employees per site). Questionnaires may require approximately 30 minutes to complete.

The survey questions are specific to each workplace and its suspected diseases and hazards, however, items in the questionnaires are derived from standardized or widely used medical and epidemiologic data collection instruments.

About 70% of the on-site evaluations involve employee exposure monitoring in the workplace. Employees participating in on-site evaluations by wearing a sampler or monitoring device to measure personal workplace exposures are offered the opportunity to get a written notice of their exposure results. To indicate their preference and, if interested, provide mailing information, employees complete a contact information post card. Completing the contact card may take 5 minutes or less. The number of employees monitored for workplace exposures per on-site evaluation is estimated to be 25 per site.

NIOSH distributes interim and final reports of health hazard evaluations, excluding personal identifiers, to: requesters, employers, employee representatives; the Department of Labor (Occupational Safety and Health Administration or Mine Safety and Health Administration, as appropriate); state health departments; and, as needed, other state and federal agencies.

NIOSH administers a follow-back program to assess the effectiveness of its HHE program in reducing workplace hazards. This program entails the mailing of follow-back questionnaires to employer and employee representatives at all the workplaces where NIOSH conducted an on-site evaluation. In a small number of instances, a follow-back on-site evaluation may be completed. The first follow-back questionnaire is sent shortly after the first visit for an on-site evaluation and takes about 10 minutes to complete. A second follow-back questionnaire is sent a year later and requires about 15 minutes to complete. At 24 months, a third follow-back questionnaire is sent which takes about 15 minutes to complete.

For requests where NIOSH does not conduct an on-site evaluation, the requestor receives the first follow-back questionnaire 12 months after our response and a second one 24 months after our response. The first questionnaire takes about 10 minutes to complete and the second questionnaire takes about 15 minutes to complete.

Because of the number of investigations conducted each year, the need to respond quickly to requests for assistance, the diverse and unpredictable nature of these investigations, and its follow-back program to assess evaluation effectiveness; NIOSH requests a consolidated clearance for data collections performed within the domain of its HHE program. There is no cost to respondents other than their time. The total estimated annual burden hours are 3,019.

Estimated Annualized Burden Hours
Type of respondent | Form | Number of respondents | Number of responses per respondent | Average burden per response in hours
Employees and representatives/employers | Health Hazard Evaluation Request Form | 300 | 1 | 12/60
Employees | Health Hazard Evaluation specific interview example | 2,670 | 1 | 15/60
Employees | Health Hazard Evaluation specific questionnaire example | 3,800 | 1 | 30/60
Employees | Contact information post card | 2,225 | 1 | 5/60
Employees and Representatives; Employers—Year 1 (on-site evaluation) | First follow-back questionnaire | 252 | 1 | 10/60
| Second follow-back questionnaire | 252 | 1 | 15/60
Employees and Representatives; Employers—Year 2 (on-site evaluation) | Third follow-back questionnaire | 252 | 1 | 15/60
Employees and Representatives; Employers—Year 1 (without on-site evaluation) | First follow-back questionnaire | 90 | 1 | 10/60
Employees and Representatives; Employers—Year 2 (without on-site evaluation) | Second follow-back questionnaire | 90 | 1 | 15/60

Leroy A. Richardson,
Chief, Information Collection Review Office, Office of Scientific Integrity, Office of the Associate Director for Science, Office of the Director, Centers for Disease Control and Prevention.

[FR Doc. 2014-20477 Filed 8-27-14; 8:45 am]

BILLING CODE 4163-18-P